POSTAL SERVICE

39 CFR Part 111

USPS Package Intercept—New Product Offerings

AGENCY: Postal Service ™.

ACTION: Final rule with comments.

SUMMARY: The Postal Service proposes to revise Mailing Standards of the United States Postal Service, Domestic Mail Manual (DMM®) 507.5 and 508.7 to implement second phase of USPS Package Intercept ™ service introducing an electronic process for Commercial customers requesting USPS Package Intercept and other related features.

DATES: Effective Date: June 24, 2012. We must receive your comments on or before June 15, 2012.

ADDRESSES: Mail or deliver written comments to the manager, Product Classification, U.S. Postal Service, 475 L'Enfant Plaza SW., Room 4446, Washington DC 20260-5015. You may inspect and photocopy all written comments at USPS® Headquarters Library, 475 L'Enfant Plaza SW., 11th Floor N, Washington DC by appointment only between the hours of 9 a.m. and 4 p.m., Monday through Friday by calling 1-202-268-2906 in advance. Email comments, containing the name and address of the commenter, may be sent to: ProductClassification@usps.gov, with a subject line of “Package Intercept—New Product Offerings”. Faxed comments are not accepted.

FOR FURTHER INFORMATION CONTACT: Karen Key at 202-268-7492 or Suzanne Newman at 202-268-5581.

SUPPLEMENTARY INFORMATION: On January 22, 2012, USPS Package Intercept service was introduced as a new domestic service that replaced the former recall of mail process. Plans were announced to implement new features for USPS Package Intercept service using a phased-in approach. The Postal Service proposes to implement the second phase of the program on June 24, 2012, by offering an electronic application method for commercial customers to register and request USPS Package Intercept service through the Business Customer Gateway at https://gateway.usps.com/bcg/login.htm. Additional related features include allowing these customers to redirect mailpieces to a new address or to a Post Office ™ as Hold For Pickup service.

Additionally, customers using the electronic process will have the option of adding selected extra services to the new Priority Mail® piece. Payment of all associated fees and postage will be made through the mailer's Centralized Account Payment System (ACH-Debit) link.

Except for pieces being redirected back to the sender that were originally sent Express Mail®, Priority Mail or First-Class Mail®, redirected mailpieces would be subject to payment of Priority Mail postage from the location where intercepted to the new destination based on the dimensions, weight and zone of the piece. An Intelligent Mail® package barcode will be included on the redirected new Priority Mail pieces.

The USPS Package Intercept fee implemented on January 22, 2012, (see Notice 123-Price List) will not change. The USPS does not guarantee the interception of a mailpiece.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

500 Additional Mailing Services

* * * * *

507 Mailer Services

* * * * *

5.0 Package Intercept

5.1 Description of Service

[Revise 5.1 as follows:]

Package Intercept service provides a method for customers to authorize redirection of any mailable domestic mailpieces with a tracking barcode as provided in 5.1.1. If the mail item is found and redirected, additional postage is charged as provided under 5.2. Package Intercept requests are active for 10 business days from the date of the request. Interception of eligible mailpieces is not guaranteed. Requests can be made as follows:

a. Retail customers may request the redirection of any mailable domestic mailpiece back to the sender by submitting PS Form 1509, Sender's Request for USPS Package Intercept Service at any Retail Post Office location.

b. Commercial customers may request the redirection of any mailable domestic mailpiece back to the sender, a new delivery address or a Post Office as Hold For Pickup service (508.7.0) by registering and submitting requests through the Business Customer Gateway at https://gateway.usps.com/bcg/login.htm. Package information on the mailpieces to be intercepted will be provided by the customer to the USPS through an electronic file exchange.

[Revise 5.1.1 as follows:]

5.1.1 Eligibility

Package Intercept service is available for any Express Mail, Priority Mail, First-Class Mail, First-Class Package Service, Parcel Select, and Package Services mailpieces with a tracking barcode, addressed to, from or between domestic destinations (608.2) that do not bear a customs declarations label, and measuring not more than 108 inches in length and girth combined except as noted in 5.1.2.

[Revise 5.1.2 as follows:]

5.1.2 Ineligible

Package Intercept is not available to:

1. Mailpieces sent to International destinations.

2. Mailpieces sent to APO/FPO/DPO destinations.

3. Domestic mailpieces requiring a customs declarations label (see 608.2.4.).

4. Mailpieces that indicate surface-only transportation such as Label 127, “Surface Mail Only” or bears other hazardous materials markings such as “Limited Quantity,” “Consumer Commodity” or “ORM-D”.

5. Mailpieces that do not contain a tracking barcode.

5.2 Postage and Fees

[Revise 5.2 as follows:]

Customers must pay a nonrefundable per-piece fee to initiate the process of attempting to intercept the mailpiece. The USPS does not guarantee the interception of a mailpiece. All intercepted mailpieces that are redirected back to the sender through the retail method using PS Form 1509 are subject to payment of the applicable postage based on how the piece was originally mailed. All intercepted mailpieces that are redirected back to the sender, a new delivery address or a Post Office as Hold For Pickup service through the electronic commercial method are relabeled and handled as a new Priority Mail piece. Except for pieces being redirected back to the sender that were originally sent by Express Mail, Priority Mail or First-Class Mail, the new Priority Mail piece is charged the applicable Priority Mail postage from the location where intercepted to the new destination based on the dimensions, weight and zone of the piece. The payment of fees are made as follows:

a. For retail customers, payment of fees may be made by cash, check, credit card, or debit card at any retail Post Office location. Payment of any applicable return postage will be collected from the sender as postage due upon delivery.

b. For commercial customers, payment of fees and any applicable postage must be processed through the mailer's Centralized Account Payment System (ACH-Debit) account link.

5.3 Adding Extra Services

[Revise 5.3 as follows:]

Extra services may be added to Package Intercept mailpieces under limited circumstances. Customers who register and file their request through the Business Customer Gateway at https://gateway.usps.com/bcg/login.htm may add, and pay additional postage for, extra services on the new Priority Mail piece at the time of their intercept request. Except for Registered Mail, which retains its original extra services identification number, the relabeled new Priority Mail item will be assigned a new extra service identification number and barcode applicable to the extra service purchased. An Intelligent Mail package barcode will be included on all redirected new Priority Mail pieces and all available USPS acceptance, processing and delivery scans will be available to the customer at no charge. The following extra services may be added to the new Priority Mail item at the time of the intercept request:

a. Adult Signature Required

b. Adult Signature Restricted Delivery

c. Insurance

d. Signature Confirmation

e. Registered Mail must be added if the original shipment included Registered Mail service, but otherwise may not be added.

* * * * *

5.5 Request for Intercept

[Revise 5.5 as follows:]

Retail customers may request to have their package intercepted and redirected to sender by submitting PS Form 1509, Sender's Request for USPS Package Intercept Service, at any Post Office when presenting valid Government-issued photo identification. Commercial customers may request to have their package redirected to sender, to a new postal delivery address, or to a Post Office as Hold For Pickup service through the Business Customer Gateway at http://pe.usps.com/. Packages designated for redirection to a new address provided by the mailer that are undeliverable as addressed will be returned to sender as provided in 507.1. Only the sender or authorized representative can request Package Intercept.

* * * * *

508 Recipient Services

* * * * *

7.0 Hold For Pickup

7.1 Fees and Postage

7.1.1 Postage Payment Methods

Hold For Pickup service is available to mailers using the “Hold For Pickup” label when postage is paid by:

[Add new item 7.1.1e. as follows:]

* * * * *

e. A mailer's Centralized Account Processing System (CAPS) account when used in conjunction with a Package Intercept request.

* * * * *

We will publish an appropriate amendment to 39 CFR Part 111 to reflect these changes.

Stanley F. Mires,
Attorney, Legal Policy & Legislative Advice.

[FR Doc. 2012-7356 Filed 3-27-12; 8:45 am]

BILLING CODE 7710-12-P